DEPARTMENT OF COMMERCE

International Trade Administration

[A-570-909]

Certain Steel Nails From the People's Republic of China: Preliminary Results and Rescission, in Part, of Antidumping Duty Administrative Review; 2023-2024

AGENCY: Enforcement and Compliance, International Trade Administration, Department of Commerce.

SUMMARY: The U.S. Department of Commerce (Commerce) preliminarily determines that Shanghai Yueda Nails Co., Ltd., a.k.a. Shanghai Yueda Nails Industry Co., Ltd. (Shanghai Yueda) and Shanghai Yueda Nails (Chuzhou) Ltd. (Chuzhou Yueda) (collectively, Yueda Nails), exporters of certain steel nails from the People's Republic of China (China), sold subject merchandise in the United States at prices below normal value (NV) during the period of review (POR) August 1, 2023, through July 31, 2024. Commerce is also rescinding the review with respect to four exporters that had no reviewable entries of subject merchandise during the POR. Interested parties are invited to comment on these preliminary results.

DATES: Applicable January 28, 2026.

FOR FURTHER INFORMATION CONTACT: Hannah Lee or Matthew Lipka, AD/CVD Operations, Office VIII, Enforcement and Compliance, International Trade Administration, Department of Commerce, 1401 Constitution Avenue NW, Washington, DC 20230; telephone: (202) 482-1219 or (202) 482-7976, respectively.

SUPPLEMENTARY INFORMATION:

Background

On August 1, 2008, Commerce published in the Federal Register the antidumping duty order on certain steel nails from China.¹ After receiving multiple review requests,² Commerce published the notice of initiation of this administrative review on September 20, 2024.³ Between October 21 and 28, 2024, we received timely separate rate applications (SRA) or separate rate certifications (SRC) from Shanghai Yueda and Chuzhou Yueda.⁴ Additionally, three companies submitted no-shipment certifications.⁵

¹ See Notice of Antidumping Duty Order: Certain Steel Nails from the People's Republic of China, 73 FR 44961 (August 1, 2008) (Order).

² See Mid Continent Steel & Wire, Inc.'s Letter, “Request for Administrative Review,” dated August 29, 2024; see also Shanghai Yueda's Letter, “Request for Administrative Review,” dated September 3, 2024; and Chuzhou Yueda's Letter, “Request for Administrative Review,” dated September 3, 2024.

³ See Initiation of Antidumping and Countervailing Duty Administrative Reviews, 89 FR 77079 (September 20, 2024) (Initiation Notice).

⁴ See Shanghai Yueda's Letter, “Separate Rate Certification,” dated October 21, 2024; see also Chuzhou Yueda's Letter, “Chuzhou Yueda's Separate Rate Application,” dated October 28, 2024.

⁵ See Shanxi Hairui Trade Co., Ltd's Letter, “No Shipment Certification” dated October 21, 2024; see also Hebei Minmetals Co., Ltd.'s Letter, “Hebei Minmentals' No Shipment Letter,” dated October 21, 2024; and Tianjin Jinchi Metal Products Co., Ltd.'s Letter, “No Shipment Letter for Tianjin Jinchi,” dated October 21, 2024. We note that an administrative review was not requested nor initiated for Shanxi Hairui Trade Co. Ltd.

On December 9, 2024, Commerce tolled the deadline to issue the preliminary results in this administrative review by 90 days.⁶ On June 27, 2025, Commerce extended the preliminary results deadline by 91 days.⁷ Due to the lapse in appropriations and Federal Government shutdown, on November 14, 2025, Commerce tolled all deadlines in administrative proceedings by 47 days,⁸ and, due to a backlog of documents that were electronically filed via Enforcement and Compliance's Antidumping and Countervailing Duty Centralized Electronic Service System (ACCESS) during the Federal Government shutdown, on November 24, 2025, Commerce tolled all deadlines in administrative proceedings by an additional 21 days.⁹ On January 7, 2026, Commerce extended the preliminary results deadline by an additional nine days.¹⁰ Accordingly, the deadline for these preliminary results is now January 16, 2026.

⁶ See Memorandum, “Tolling of Deadlines for Antidumping and Countervailing Duty Proceedings,” dated December 9, 2024.

⁷ See Memorandum, “Extension of Deadline for Preliminary Results of Antidumping Duty Administrative Review,” dated June 27, 2025.

⁸ See Memorandum, “Deadlines Affected by the Shutdown of the Federal Government,” dated November 14, 2025.

⁹ See Memorandum, “Tolling of all Case Deadlines,” dated November 24, 2025.

¹⁰ See Memorandum, “Extension of Deadline for Preliminary Results of Antidumping Duty Administrative Review,” dated January 7, 2026.

For a complete description of the events that followed the initiation of this review, see the Preliminary Decision Memorandum.¹¹ The Preliminary Decision Memorandum is a public document and is on file electronically via ACCESS. ACCESS is available to registered users at https://access.trade.gov. In addition, a complete version of the Preliminary Decision Memorandum can be accessed directly at https://access.trade.gov/public/FRNoticesListLayout.aspx.

¹¹ See Memorandum, “Decision Memorandum for the Preliminary Results of Antidumping Duty Administrative Review: Certain Steel Nails from the People's Republic of China; 2023-2024,” dated concurrently with, and hereby adopted by, this notice (Preliminary Decision Memorandum).

Scope of the Order ¹²

¹² See Order.

The products covered by the Order are nails from China. A full description of the scope of the Order is contained in the Preliminary Decision Memorandum.¹³

¹³ See Preliminary Decision Memorandum.

Rescission of Administrative Review, in Part

Pursuant to 19 CFR 351.212(a), “{g}enerally, the amount of duties to be assessed is determined in a review of the order covering a discrete period of time.” Thus, normally, upon completion of an administrative review, suspended entries of subject merchandise are liquidated at the antidumping duty assessment rate calculated for the review period.¹⁴ Therefore, in order to apply the final antidumping duty liability that was determined in an administrative review for a particular company, there must be at least one suspended entry of that company's subject merchandise that Commerce can instruct U.S. Customs and Border Protection (CBP) to liquidate at the antidumping duty assessment rate calculated for the review period. Pursuant to 19 CFR 351.213(d)(3), Commerce will rescind an administrative review if it concludes that, during the period covered by the review, there were no entries, exports, or sales of the subject merchandise, as the case may be.¹⁵ Because the entry data that we obtained from CBP showed no suspended entries of subject merchandise from the four companies identified in Appendix II, on December 30, 2024, we notified parties of our intent to rescind this administrative review with respect to those companies.¹⁶ No party commented on our intent to rescind this review with respect to these companies. Therefore, in the absence of any suspended entries of subject merchandise during the POR from the companies listed in Appendix II, we are rescinding this administrative review with respect to these companies, in accordance with 19 CFR 351.213(d)(3).

¹⁴ See 19 CFR 351.212(b)(1).

¹⁵ See, e.g., Dioctyl Terephthalate from the Republic of Korea: Rescission of Antidumping Administrative Review; 2021-2022, 88 FR 24758 (April 24, 2023); see also Certain Carbon and Alloy Steel Cut- to Length Plate from the Federal Republic of Germany: Recission of Antidumping Administrative Review; 2020-2021, 88 FR 4157 (January 24, 2023).

¹⁶ See Memorandum, “Notice of Intent to Rescind Review, In Part,” dated December 30, 2024.

Methodology

Commerce is conducting this review in accordance with section 751(a)(1)(B) of the Tariff Act of 1930, as amended (the Act). We calculated export prices in accordance with section 772 of the Act. Because China is a non-market economy country within the meaning of section 771(18) of the Act, NV has been calculated in accordance with section 773(c) of the Act. For a full description of the methodology underlying our conclusions, see the Preliminary Decision Memorandum.

Separate Rates

In the Initiation Notice, we informed parties that firms for which the review was initiated that wished to qualify for separate rate status must complete, as appropriate, either an SRA or SRC.¹⁷ We preliminarily determine that Yueda Nails ¹⁸ is eligible for a separate rate.

¹⁷ See Initiation Notice, 89 FR at 77080.

¹⁸ Commerce has preliminarily determined that the two mandatory respondents, Shanghai Yueda and Chuzhou Yueda, are affiliated and has treated them as a single entity (Yueda Nails). See Memorandum, “Affiliation and Single Entity Determination,” dated concurrently with this notice; see also Preliminary Decision Memorandum.

China-Wide Entity

Commerce's policy regarding conditional review of the China-wide entity applies to this administrative review.¹⁹ Under this policy, the China-wide entity will not be under review unless a party specifically requests, or Commerce self-initiates, a review of the entity. Because no party requested a review of the China-wide entity, the entity is not under review and the weighted-average dumping margin assigned to the China-wide entity (i.e. 118.04 percent) is not subject to change as a result of this administrative review.

¹⁹ See Antidumping Proceedings: Announcement of Change in Department Practice for Respondent Selection in Antidumping Duty Proceedings and Conditional Review of the Nonmarket Economy Entity in NME Antidumping Duty Proceedings, 78 FR 65963 (November 4, 2013).

Preliminary Results of the Review

As a result of our analysis, Commerce preliminarily determines the following estimated weighted-average dumping margin exists for the POR:

Exporter | Weighted- average dumping margin (percent)
Shanghai Yueda Nails Co., Ltd., a.k.a. Shanghai Yueda Nails Industry Co., Ltd./Shanghai Yueda Nails (Chuzhou) Ltd | 28.28

Disclosure

Commerce intends to disclose the calculations performed for these preliminary results to the parties within five days of public announcement, or if there is no public announcement, within five days of the date of publication of this notice in the Federal Register accordance with 19 CFR 351.224(b).

Public Comment

Case briefs or other written comments may be submitted to the Assistant Secretary for Enforcement and Compliance. Pursuant to 19 CFR 351.309(c)(1)(ii), interested parties may submit a case brief no later than 21 days after the date of publication of this notice.²⁰ Rebuttal briefs, limited to issues raised in the case briefs, may be filed not later than five days after the date for filing case briefs.²¹ Interested parties who submit case briefs or rebuttal briefs in this proceeding must submit: (1) a table of contents listing each issue; and (2) a table of authorities.²² Case and rebuttal briefs should be filed electronically via ACCESS. An electronically filed document must be received successfully in its entirety in ACCESS by 5:00 p.m. Eastern Time on the established deadline.

²⁰ See 19 CFR 351.309.

²¹ See 19 CFR 351.309(d); see also Administrative Protective Order, Service, and Other Procedures in Antidumping and Countervailing Duty Proceedings, 88 FR 67069, 67077 (September 29, 2023) (APO and Final Service Rule).

²² See 19 CFR 351.309(c)(2) and (d)(2).

As provided under 19 CFR 351.309(c)(2)(iii) and (d)(2)(iii), we request that interested parties provide at the beginning of their briefs a public, executive summary for each issue raised in their briefs.²³ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).²⁴

²³ We use the term “issue” here to describe an argument that Commerce would normally address in a comment of the Issues and Decision Memorandum.

²⁴ See APO and Final Service Rule.

Pursuant to 19 CFR 351.310(c), interested parties who wish to request a hearing must submit a written request to the Assistant Secretary for Enforcement and Compliance, filed electronically via ACCESS. Requests should contain: (1) the party's name, address, and telephone number; (2) the number of individuals associated with the requesting party that will attend the hearing and whether any of those individuals is a foreign national; and (3) a list of the issues the party intends to discuss at the hearing. Issues raised in the hearing will be limited to those raised in the respective case briefs. An electronically filed hearing request must be received successfully in its entirety by Commerce's electronic records system, ACCESS, by 5 p.m. Eastern Time within 30 days after the date of publication of this notice in the Federal Register.

Assessment Rates

Upon issuance of the final results, Commerce will determine, and CBP shall assess, antidumping duties on all appropriate entries covered by this administrative review.²⁵ For the four companies identified in Appendix II with respect to which Commerce is rescinding this administrative review, Commerce intends to issue assessment instructions to CBP no earlier than 35 days after the date of publication of this notice in the Federal Register. For the remaining companies under review, Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

²⁵ See 19 CFR 351.212(b)(1).

If Yueda Nails' ad valorem weighted-average dumping margin is not zero or de minimis (i.e., less than 0.50 percent) in the final results of this review, Commerce will calculate importer-specific assessment rates on the basis of the ratio of the total amount of dumping calculated for the importer's examined sales and the total quantity of those sales, in accordance with 19 CFR 351.212(b)(1).²⁶ Where Yueda Nails reported reliable entered values, Commerce intends to calculate importer-specific ad valorem assessment rates by aggregating the amount of dumping calculated for all U.S. sales to the importer and dividing this amount by the total entered value of the merchandise sold to the importer.²⁷ Where Yueda Nails did not report entered value, we will calculate a per-unit importer or customer-specific assessment rate based on the ratio of the total amount of antidumping duties calculated for the examined sales to the total quantity of those sales.²⁸ To determine whether the per-unit duty assessment rate is de minimis, in accordance with the requirement set forth in 19 CFR 351.106(c)(2), we will also calculate an estimated importer-specific ad valorem assessment rate based on the estimated entered value.²⁹ We will instruct CBP to assess antidumping duties on all appropriate entries covered by this review when the importer-specific ad valorem assessment rate calculated in the final results of this review is not zero or de minimis. Where Yueda Nails' ad valorem weighted-average dumping margin is zero or de minimis, or an importer-specific ad valorem assessment rate is zero or de minimis, ³⁰ we will instruct CBP to liquidate the appropriate entries without regard to antidumping duties. For entries that were not reported in the U.S. sales data submitted by Yueda Nails, but that entered under the case number of Yueda Nails (i.e., at the individually-examined exporter's cash deposit rate), Commerce will instruct CBP to liquidate such entries at the rate for the China-wide entity.³¹

²⁶ In these preliminary results, Commerce applied the assessment rate calculation method adopted in Antidumping Proceedings: Calculation of the Weighted-Average Dumping Margin and Assessment Rate in Certain Antidumping Proceedings: Final Modification, 77 FR 8101 (February 14, 2012).

²⁷ See 19 CFR 351.212(b)(1).

²⁸ See 19 CFR 351.212(b)(1).

²⁹ For calculated (estimated) ad valorem importer-specific assessment rates used in determining whether the per-unit assessment rate is de minimis, see Memorandum, “Preliminary Results Analysis Memorandum for Shanghai Yueda Nails Co., Ltd. and Shanghai Yueda Nails (Chuzhou) Ltd.” dated concurrently with this notice, and accompanying Margin Calculation Program Logs and Outputs.

³⁰ See 19 CFR 351.106(c)(2).

³¹ See NME Practice for a full discussion.

For the companies rescinded from the review, we will instruct CBP to assess antidumping duties on all appropriate entries at rates equal to the cash deposit of estimated antidumping duties required at the time of entry, or withdrawal from warehouse, in accordance with 19 CFR 351.212(c)(1)(i). Commerce intends to issue these rescission instructions to CBP no earlier than 35 days after the date of publication of this notice in the Federal Register.

Cash Deposit Requirements

The following cash deposit requirements will be effective upon publication of the final results of this administrative review for shipments of the subject merchandise from China entered, or withdrawn from warehouse, for consumption on or after the publication date, as provided by section 751(a)(2)(C) of the Act: (1) for Yueda Nails, the cash deposit rate will be equal to the weighted-average dumping margin established in the final results of this review (except that if the ad valorem rate is de minimis, then the cash deposit rate will be zero); (2) for previously investigated or reviewed Chinese and non-Chinese exporters not listed above that received a separate rate in a prior segment of this proceeding, the cash deposit rate will continue to be the existing exporter-specific cash deposit rate; (3) for all Chinese exporters of subject merchandise that have not been found to be entitled to a separate rate, the cash deposit rate will be the rate for the China-wide entity; and (4) for all non-Chinese exporters of subject merchandise which have not received their own separate rate, the cash deposit rate will be the rate applicable to the Chinese exporter that supplied that non-Chinese exporter. These cash deposit requirements, when imposed, shall remain in effect until further notice.

Final Results of Review

Unless otherwise extended, we intend to issue the final results of this administrative review, which will include the results of our analysis of issues raised in the case and rebuttal briefs, within 120 days of the date of publication of this notice in the Federal Register, pursuant to section 751(a)(3)(A) of the Act.

Notification to Importers

This notice also serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

This administrative review and notice are issued and published in accordance with sections 751(a)(1) and 777(i)(1) of the Act, 19 CFR 351.213, and 19 CFR 351.221(b)(4).

Dated: January 16, 2026.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Order

IV. Affiliation and Single Entity Treatment

V. Discussion of the Methodology

VI. Currency Conversion

VII. Recommendation

Appendix II

Companies Rescinded From Review

1. Hebei Minmetals Co., Ltd.

2. Nanjing Yuechang Hardwares Co., Ltd.

3. Suntec Industries Co., Ltd.

4. Tianjin Jinchi Metal Products Co., Ltd.

[FR Doc. 2026-01638 Filed 1-27-26; 8:45 am]

BILLING CODE 3510-DS-P